DEPARTMENT OF DEFENSE

Department of the Air Force

U.S. Air Force Scientific Advisory Board; Notice of Federal Advisory Committee Meeting

AGENCY: Department of the Air Force, U.S. Air Force Scientific Advisory Board, Department of Defense.

ACTION: Notice of Federal Advisory Committee Meeting.

SUMMARY: The Department of Defense (DoD) is publishing this notice to announce that the following Federal Advisory Committee meeting of the U.S. Air Force Scientific Advisory Board will take place.

DATES: Closed to the public Wednesday January 23, 2019 from 8:00 a.m. to 5:00 p.m.

ADDRESSES: Beckman Center Auditorium, Arnold and Mabel Beckman Center of the National Academies of Sciences and Engineering, 100 Academy Way, Irvine, CA 92617.

FOR FURTHER INFORMATION CONTACT: Evan Buschmann, (240) 612-5503 (Voice), 703-693-5643 (Facsimile), evan.g.buschmann.civ@us.af.mil (Email). Mailing address is 1500 West Perimeter Road, Ste. #3300, Joint Base Andrews, MD 20762. Website: http://www.sab.af.mil/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of this United States Air Force Scientific Advisory Board quarterly meeting is to provide dedicated time for members to begin collaboration on research and formally commence the United States Air Force Scientific Advisory Board's three FY19 Secretary of the Air Force directed studies: (1) 21st Century Training and Education Technologies, (2) Fidelity of Modeling, Simulation, and Analysis to Support Air Force Decision Making, and (3) Multi-Source Data Fusion for Target Location and Identification. At this meeting the United States Air Force Scientific Advisory Board will also deliberate and finalize the FY19 Air Force Research Laboratory Science & Technology Review Integrated Outbrief.

Agenda: 0800-0815 Welcome Remarks from Dr. James S. Chow, Chair, U.S. Air Force Scientific Advisory Board; 0815-0945 21st Century Training and Education Technologies; 1000-1145 Fidelity of Modeling, Simulation, and Analysis to Support Air Force Decision Making; 1200-1300 Lunch Break; 1300-1445 Multi-Source Data Fusion for Target Location and Identification; 1500-1600 FY19 Air Force Research Laboratory Science & Technology Review Integrated Outbrief; 1615-1700 Closing Remarks, from Dr. James S. Chow, Chair, U.S. Air Force Scientific Advisory Board.

Meeting Accessibility: The Air Force Scientific Advisory Board Winter Meeting will be closed to the public because the Board will discuss classified information and matters covered by Section 552b of Title 5, United States Code, subsection (c), subparagraph (1).

Written Statements: Any member of the public that wishes to provide input on the Air Force Scientific Advisory Board Winter Meeting must contact the meeting organizer at the phone number or email address listed in this announcement at least five working days prior to the meeting date. Please ensure that you submit your written statement in accordance with 41 CFR 102-3.140(c) and section 10(a)(3) of the Federal Advisory Committee Act. Statements being submitted in response to the agenda mentioned in this notice must be received by the Scientific Advisory Board meeting organizer at least five calendar days prior to the meeting commencement date. The Scientific Advisory Board meeting organizer will review all timely submissions and respond to them prior to the start of the meeting identified in this notice. Written statements received after this date may not be considered by the Scientific Advisory Board until the next scheduled meeting.

Henry Williams, Jr.,
Acting Air Force Federal Register Liaison Officer.

[FR Doc. 2018-28205 Filed 12-27-18; 8:45 am]

BILLING CODE 5001-10-P